COUNCIL ON ENVIRONMENTAL QUALITY

Opportunity for Sponsorship of the GreenGov Symposium

AGENCY: Council on Environmental Quality.

ACTION: Notice. GreenGov Symposium Call for Co-Sponsors.

SUMMARY: This notice informs the public of the opportunity for eligible non-governmental entities to submit an application for co-sponsorship of a potential White House Council on Environmental Quality 2016 GreenGov Symposium. Those interested in becoming co-sponsors should submit an application for co-sponsorship by February 12, 2016.

DATES: To be considered, applications for co-sponsorship must be received via email no later than 5:00 p.m. Eastern Standard Time on February 12, 2016.

ADDRESSES: Submit applications and any supporting materials electronically to the White House Council on Environmental Quality, Office of Federal Sustainability, by sending them via email to: Gordon_W_Weynand@ceq.eop.gov.

FOR FURTHER INFORMATION CONTACT: Gordon Weynand, Office of Federal Sustainability, White House Council on Environmental Quality, Gordon_W_Weynand@ceq.eop.gov.

SUPPLEMENTARY INFORMATION: Application Information: Only non-government entities that are not-for-profit corporations or entities are eligible for co-sponsorship of the 2016 GreenGov Symposium. Potential co-sponsors could include, but are not limited to, registered 501(c)3 organizations and academic institutions. Eligible entities interested in co-sponsoring the 2016 GreenGov Symposium effort should demonstrate and provide relevant information on:

• Alignment of their organization's mission and goals with the mission and goals of CEQ and the Office of Federal Sustainability and with the general purpose of the Symposium;

• ability to contribute to selection of Symposium location(s), associated logistics, agenda planning, speaker proposal and selection, and event outreach;

• experience working successfully with private sector, state and local government and academic sector stakeholders that would attend a GreenGov event;

• ability to travel to various locations within the continental United States, if necessary to host GreenGov events;

• technical and programmatic ability to support internet and web based production of GreenGov educational events; and,

• ability to support both a major multiple day symposium event as well as limited topic specific seminars and workshops.

Background: GreenGov is a CEQ initiative focused on Federal energy and sustainability efforts. Past GreenGov Symposiums brought sustainability leaders and newcomers in the Federal, state, and local government, academic, non-profit and private sectors together to learn from each other, share ideas, and help develop innovative solutions to energy and sustainability challenges in Federal operations. By design, the GreenGov Symposium helps the Federal community save energy, save money, and address sustainability goals and targets under Executive Order 13514: Federal Leadership in Environmental, Energy, and Economic Performance and under Executive Order 13693: Planning for Federal Sustainability in the Next Decade. Historical information on GreenGov is available at: http://www.whitehouse.gov//greengov.

Authority: 42 U.S.C. 4342, 4344.

Dated: January 15, 2016.
Christine J. Harada,
Federal Chief Sustainability Officer.

[FR Doc. 2016-01132 Filed 1-20-16; 8:45 am]

BILLING CODE 3225-F6-P